DEPARTMENT OF LABOR

Employment and Training Administration

[TA-W-50,375]

Carlisle Foodservice Products; Erie, PA; Notice of Termination of Investigation

Pursuant to section 221 of the Trade Act of 1974, as amended, an investigation was initiated on December 18, 2002, in response to a worker petition filed by a company official on behalf of workers at Carlisle FoodService Products, Erie, Pennsylvania.

The petitioner has requested that the petition be withdrawn. Consequently, further investigation would serve no useful purpose and the investigation has been terminated.

Signed in Washington, DC this 16th day of January, 2003.
Elliott S. Kushner,
Certifying Officer, Division of Trade Adjustment Assistance.

[FR Doc. 03-2565 Filed 2-3-03; 8:45 am]

BILLING CODE 4510-30-P